DEPARTMENT OF TRANSPORTATION

Coast Guard

33 CFR Part 165

[CGD 05-00-004]

RIN 2115-AA97

Safety Zone; Transit of S/V Amerigo Vespucci, Chesapeake Bay, Baltimore, MD

AGENCY: Coast Guard, DOT.

ACTION: Temporary final rule.

SUMMARY: The Coast Guard is establishing a temporary moving safety zone in the Chesapeake Bay and the Port of Baltimore, Maryland during the transit of the sailing vessel Amerigo Vespucci through those waters. This action is necessary to provide for the safety of life on navigable waters during the vessel's transit. This action will restrict vessel traffic in portions of the Chesapeake Bay and the Port of Baltimore.

DATES: This rule is effective from 6 a.m. on June 21, 2000 until 6 p.m. on June 24, 2000.

ADDRESSES: Comments and material received from the public, as well as documents indicated in this preamble as being available in the docket, are part of docket CGD5-00-004 and are available for inspection or copying at Commander, U.S. Coast Guard Activities, 2401 Hawkins Point Road, Baltimore, Maryland 21226-1791, between 8 a.m. and 4 p.m., Monday through Friday, except Federal holidays.

FOR FURTHER INFORMATION CONTACT: Chief Warrant Officer Ron Houck, Port Safety and Security Section, at (410) 576-2674.

SUPPLEMENTARY INFORMATION:

Regulatory Information

On April 26, 2000 we published a notice of rulemaking (NPRM) entitled Safety Zone; Transit of S/V Amerigo Vespucci, Chesapeake Bay, Baltimore, MD, in the Federal Register (65 FR 24439). We received no letters commenting on the rule. No public hearing was requested and none was held.

Background and Purpose

The sailing vessel Amerigo Vespucci is planning to transit the waters of the Chesapeake Bay enroute to the Port of Baltimore, Maryland on June 21, 2000 and enroute from the Port of Baltimore, Maryland on June 24, 2000. The transits of this 330-foot sailing vessel are expected to attract a large fleet of spectator vessels. The purpose of these regulations is to promote maritime safety and protect the sailing vessel and the boating public during these transits by establishing a safety buffer around the sailing vessel.

Discussion of Rule

The Coast Guard is establishing a temporary moving safety zone around the 330-foot sailing vessel, Amerigo Vespucci. The safety zone will be enforced during her transit of Chesapeake Bay enroute to the Port of Baltimore, Maryland on June 21, 2000 and enroute from the Port of Baltimore on June 24, 2000. The safety zone will include all waters within 150 yards ahead of or 50 yards abeam or astern of the vessel while she is transiting the area. No vessels will be allowed to enter or navigate within this area unless authorized by the Captain of the Port.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040; February 26, 1979).

We expect the economic impact of this rule to be so minimal that a full Regulatory Evaluation under paragraph 10e of the regulatory policies and procedures of DOT is unnecessary.

These regulations are limited in duration, affect only a limited area, and will be well publicized to allow mariners to make alternative plans for transiting the affected area.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: The owners or operators of vessels intending to operate or anchor in portions of the Chesapeake Bay and the Port of Baltimore, Maryland. The regulations will not have a significant impact on a substantial number of small entities for the following reasons: The restrictions are limited in duration, affect only limited areas, and will be well publicized to allow mariners to make alternative plans for transiting the affected areas.

Assistance for Small Entities

Under section 213(a) of the Small Business Regulatory Enforcement Fairness Act of 1996 (Pub. L. 104-121), we offered to assist small entities in understanding this rule so that they could better evaluate its effects on them and participate in the rulemaking. We received no requests for assistance in understanding the rule.

Small businesses may send comments on the actions of the Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

We considered the environmental impact of this rule and concluded that, under figure 2-1, paragraph (34)(g), of Commandant Instruction M16475.1C; this rule is categorically excluded from further environmental documentation. This rule will have no affect on the environment.

List of Subjects in 33 CFR Part 165

Harbors, Marine safety, Navigation (water), Reporting and recordkeeping requirements, Security measures, Waterways.

Regulation

For the reasons discussed in the preamble, the Coast Guard amends 33 CFR Part 165 as follows:

PART 165—[AMENDED]

1. The authority citation for Part 165 continues to read as follows:

Authority: 33 U.S.C. 1225 and 1231; 50 U.S.C. 191; 33 CFR 1.05-1(g), 6.04-1, 6.04-6, and 160.5; 49 CFR 1.46.

2. Add temporary § 165.T05-004 to read as follows:

§ 165.T05-004 Safety Zone; Transit of S/V Amerigo Vespucci, Chesapeake Bay, Baltimore, MD.

(a) Definitions: Captain of the Port means the Commander, Coast Guard Activities Baltimore or any Coast Guard commissioned, warrant, or petty officer who has been authorized to act on his behalf.

(b) Location. The following area is a moving safety zone: All waters within 150 yards ahead of or 50 yards abeam or astern of the sailing vessel Amerigo Vespucci, while the vessel is operating on the Chesapeake Bay or its tributaries, north of the Maryland-Virginia border and south of latitude 39°35′00″.

(c) Regulations.

(1) All persons are required to comply with the general regulations governing safety zones in § 165.23 of this part.

(2) No person or vessel may enter or navigate within the regulated areas unless authorized to do so by the Captain of the Port. Any person or vessel authorized to enter the regulated areas must operate in strict conformance with any directions given by the Captain of the Port and leave the regulated area immediately if the Captain of the Port so orders.

(3) The Coast Guard vessels enforcing this section can be contacted on VHF Marine Band Radio, channels 13 and 16. The Captain of the Port can be contacted at telephone number (410) 576-2521 or 2693.

(4) The Captain of the Port will notify the public of any changes in the status of this zone by a Marine Safety Radio Broadcast on VHF-FM marine band radio, channel 22 (157.1 MHZ).

(d) Enforcement period. These regulations are enforced from 6 a.m. to 6 p.m. on June 21, 2000 and June 24, 2000 respectively.

Dated: May 16, 2000.
C.L. Miller,
Captain, U.S. Coast Guard, Captain of the Port of Baltimore.

[FR Doc. 00-13025 Filed 5-19-00; 12:38 pm]

BILLING CODE 4910-15-U